DEPARTMENT OF TRANSPORTATION

Office of the Secretary

Notice of Aviation Proceedings

Aviation Proceedings, Agreements filed during the week ending November 24, 2000. The following Agreements were filed with the Department of Transportation under the provisions of 49 U.S.C. 412 and 414. Answers may be filed within 21 days after the filing of the application.

Docket Number: OST-2000-8369.

Date Filed: November 21, 2000.

Parties: Members of the International Air Transport Association.

Subject:

PTC COMP 0697 dated 6 October 2000

Mail Vote 090—Resolution 017c

Construction Rules for Fare Components

Re-adopt Paragraphs (5)(a)(ix) and (5)(b)(vii)

Intended effective date: 1 November 2000

Docket Number: OST-2000-8370.

Date Filed: November 21, 2000.

Parties: Members of the International Air Transport Association.

Subject:

PTC COMP 0722 dated 14 November 2000

Composite Resolution 002ww (except within Europe, between USA and Austria, Belgium, Chile, Germany, Iceland, Italy, Malaysia, Netherlands, Scandinavia, Switzerland)

Intended effective date: 15 December 2000

Docket Number: OST-2000-8371.

Date Filed: November 21, 2000.

Parties: Members of the International Air Transport Association.

Subject:

PTC COMP 0723 dated 14 November 2000

Composite Resolution 002n

between USA and Austria, Belgium, Chile, Germany, Iceland, Italy, Malaysia, Netherlands, Scandinavia, Switzerland

Intended effective date: 15 December 2000

Dorothy Y. Beard,
Federal Register Liaison.

[FR Doc. 00-31923 Filed 12-13-00; 8:45 am]

BILLING CODE 4910-62-P